EXPORT-IMPORT BANK OF THE U.S.

[Public Notice 98]

Agency Information Collection Activities: Submission for OMB Review; Comment Request

AGENCY: Export-Import Bank of the U.S.

ACTION: Notice and request for comments.

SUMMARY: The Export-Import Bank (``Ex-Im Bank'') is seeking approval of the proposed information collection described below. The collection comprises certain applications and forms relating to Ex-Im Bank's insurance program. As part of its continuing effort to reduce paperwork and respondent burden, Ex-Im Bank invites the general public and other Federal Agencies to comment on the proposed information collection as required by the Paperwork Reduction Act of 1995.

SUPPLEMENTARY INFORMATION: This notice is soliciting comments from the public concerning the proposed collection of information to: (1) Evaluate whether the proposed collection is necessary for the performance of the functions of the agency, including whether the information will have practical utility; (2) evaluate the accuracy of the agency's estimate of the burden of the proposed information collection; (3) enhance the quality, utility, and clarity of the information to be collected; and (4) minimize the burden of collection of information on those who are to respond, including through the use of appropriated automated collection techniques or other forms of information technology, e.g., permitting electronic submission of responses.

DATES: Written comments should be received on or before May 11, 2007 to be assured of consideration.

ADDRESSES: Direct all comments to David Rostker, Office of Management and Budget, Office of Information and Regulatory Affairs, NEOB, Room 10202, Washington, DC 20503, (202) 395-3897. Direct all requests for information, including copies of the proposed collection of information and supporting documentation to Solomon Bush, Office of Information and Records Management, Export-Import Bank of the United States, 811 Vermont Avenue, NW., Room 776, Washington, DC 20571, (202) 565-3353 or (800) 565-3946, x3353.

Titles and Form Numbers:

Application for Letter of Credit Insurance Policy, EIB 92-34;

Beneficiary Certificate and Agreement, EIB 92-37;

Short-Term Multi-Buyer Export Credit Insurance Policy Application, EIB 92-50;

Broker Registration Form, EIB 92-79.

OMB Number: 3048-0009.

Type of Review: Regular.

Need and Use: The information requested provides Ex-Im Bank with information necessary to determine legislatively required reasonable assurance of repayment and fulfills other statutory requirements. These forms are used in connection with Ex-Im Bank's insurance program.

Affected Public: The forms affect entities involved in Ex-Im Bank's programs supporting the export of U.S. goods and services, including exporters, banks, insurance brokers and non-profit or state and local governments acting as facilitators.

| EIB 92-34 | EIB 92-37 | EIB 92-50 | EIB 92-79
Estimated Annual Respondents | 10 | 10 | 398 | 50
Estimated Time Per Respondent | 1 Hour | 20 Minutes | 1 Hour | 2 Hours
Estimated Annual Burden | 10 Hours | 3.3 Hours | 368 Hours | 100 Hours
Frequency of Reporting or Use | Applications submitted one time.

[FR Doc. 07-1798 Filed 4-10-07; 8:45 am]

BILLING CODE 6690-01-M